DEPARTMENT OF HOUSING AND URBAN DEVELOPMENT

[Docket No. FR-4900-FA-22-]

Announcement of Funding Awards Fair Housing Initiatives Program Fiscal Year 2004

AGENCY: Office of the Assistant Secretary for Fair Housing and Equal Opportunity, HUD.

ACTION: Announcement of funding awards.

SUMMARY: In accordance with section 102(a)(4)(C) of the Department of Housing and Urban Development Reform Act of 1989, this announcement notifies the public of funding decisions made by the Department for funding under the SuperNotice of Funding Availability (SuperNOFA) for the Fair Housing Initiatives Program (FHIP) for Fiscal Year (FY) 2004. This announcement contains the names and addresses of those award recipients selected for funding based on the rating and ranking of all applications and the amount of the awards.

FOR FURTHER INFORMATION CONTACT: Myron Newry, Director, FHIP Support Division, Office of Programs, 451 Seventh Street, SW., Room 5230, Washington, DC 20410. Telephone number (202) 708-2215 (this is not a toll-free number). A telecommunications device (TTY) for hearing and speech impaired persons is available at (800) 877-8339 (this is a toll-free number).

SUPPLEMENTARY INFORMATION: Title VIII of the Civil Rights Act of 1968, as amended, 42 U.S.C. 3601-19 (the Fair Housing Act) charges the Secretary of Housing and Urban Development with responsibility to accept and investigate complaints alleging discrimination based on race, color, religion, sex, handicap, familial status or national origin in the sale, rental, or financing of most housing. In addition, the Fair Housing Act directs the Secretary to coordinate with State and local agencies administering fair housing laws and to cooperate with and render technical assistance to public or private entities carrying out programs to prevent and eliminate discriminatory housing practices.

Section 561 of the Housing and Community Development Act of 1987, 42 U.S.C. 3616, established FHIP to strengthen the Department's enforcement of the Fair Housing Act and to further fair housing. This program assists projects and activities designed to enhance compliance with the Fair Housing Act and substantially equivalent State and local fair housing laws. Implementing regulations are found at 24 CFR Part 125.

The Department announced under separate solicitations in the Federal Register on May 14, 2004 (69 FR 94, pp 26942-27021, 27135-27156, and 27157-27168), the availability of approximately $17,730,525 out of a FY 2004 appropriation of $20,130,525 and any potential recapture, to be utilized on a competitive basis for FHIP projects and activities. Under the first solicitation for 2004, funding availability follows: The Private Enforcement Initiative (PEI/$11,850,000), the Education and Outreach Initiative (EOI), including EOI-National ($3,780,525), and the Fair Housing Organizations Initiative (FHOI/$2,100,000); for the second solicitation, $1,000,000 is for an EOI-College and University Component or a fair housing education and outreach effort in partnership with Minority Serving Institutions (MSIs) with law schools. This Notice announces awards of approximately $19,732,734.21 to 111 organizations and $1,265,207.00 to one contractor.

The Department reviewed, evaluated and scored the applications received based on the criteria in the FY 2004 SuperNOFA. As a result, HUD has funded the applications announced in Appendix A, and in accordance with section 102(a)(4)(C) of the Department of Housing and Urban Development Reform Act of 1989 (103 Stat. 1987, 42 U.S.C. 3545), the Department is hereby publishing details concerning the recipients of funding awards in Appendix A of this document.

The Catalog of Federal Domestic Assistance Number for currently funded Initiatives under the Fair Housing Initiatives Program is 14.408.

Dated: August 10, 2006.
Bryan Greene,
Deputy Assistant Secretary for Enforcement and Programs.

Appendix A
Applicant name | Contact person | Region | Award amount
Fair Housing Initiatives Program Awards FY 2004
Education and Outreach Initiative/General Component
HAP, Inc., 322 Main Street, Springfield, MA 01105-2473 | Peter Gagliardi, ph. 413-233-1661, fx. 413-731-8723 | 1 | $79,971.20
Champlain Valley Office of Economic Opportunity, P.O. Box 1603, Burlington, VT 05402-1603 | Tim Searles, ph. 802-862-2771, fx. 802-651-4179 | 1 | 80,000.00
Neighborhood Economic Development Advocacy, 73 Spring Street, Ste. 506, New York, NY 10012 | Sarah Ludwig, ph. 212-680-5100, fx. 212-680-5104 | 2 | 80,000.00
Citizens Action of New Jersey, 400 Main Street, Hackensack, NJ 07601-5903 | Phyllis Salowe-Keye, ph. 201-488-2804, fx. 201-488-1253 | 2 | 80,000.00
Piedmont Housing Alliance, 2000 Holiday Drive, Ste. 200, Charlottesville, VA 22901-2899 | Karen Reifenberge, ph. 434-817-2436, fx. 434-817-0664 | 3 | 70,264.80
American Environmental Justice Project, 16 West 25th Street, Baltimore, MD 21218-5002 | Johnnie M. Tasker, ph. 504-943-5954 | 3 | 80,000.00
ACORN Fair Housing, A Project Of American Institute, 739 8th Street, SE., Washington, DC 20003-2802 | Valerie Coffin, ph. 410-735-3373, fx. 410-735-3383 | 3 | 80,000.00
Fair Housing Council of Montgomery County, 105 E. Glenside Avenue, Ste. 3, Glenside, PA 19038-4602 | Elizabeth Albert, ph. 215-576-7711, fx. 215-576-1509 | 3 | 80,000.00
North Carolina Fair Housing Center, 114 W. Parrish Street, 2nd Floor, Durham, NC 27701-3321 | Stella Jones, ph. 919-667-0888, fx. 919-667-1558 | 4 | 78,134.40
Fair Housing Agency of Alabama, 1111 E Interstate 65, Service Road # 109, Mobile, AL 36606 | Enrique Lang, ph. 251-471-9333, fx. 251-471-9882 | 4 | 79,924.00
Metropolitan Development and Housing Agency, 701 South Sixth Street, Nashville, TN 37206-3809 | Esperanza Soriano-McCrary, ph. 615-252-8535, fx. 615-780-7059 | 4 | 63,663.20
Waccamaw Regional Council of Governments, 1230 Highmarket Street, Georgetown, SC 29440-3227 | C. Kenneth Thompson, ph. 843-546-8502, fx. 843-527-2302 | 4 | 79,445.60
Prairie State Legal Services, Inc., 975 N. Main Street, Rockford, IL 61103-7064 | David Wolowitz, ph. 630-690-2130, fx. 630-690-2279 | 5 | 80,000.00
Fair Housing Center of Southwest Michigan, 323 N. Burdick Street, Kalamazoo, MI 49007 | Patricia L. Winston, ph. 269-927-6777 | 5 | 80,000.00
Indiana Civil Rights Commission, 100 N. Senate Avenue, Rm. N103, Indianapolis, IN 48204-2255 | Judy Kochanczyk, ph. 317-233-6306, fx. 317-232-6580 | 5 | 80,000.00
Housing Opportunities Made Equal of Greater Cincinnati, 2400 Reding Road, Ste. 404, Cincinnati, OH 31606-2015 | Deborah Jetter, ph. 513-721-4663, fx. 513-721-1642 | 5 | 80,000.00
ACORN Housing Corporation, Inc, 757 Raymond Avenue, #215, St. Paul, MN 55114-1723 | Michael Shea, ph. 651-203-0008, fx. 651-203-1046 | 5 | 80,000.00
City of Santa Fe, P.O. Box 909, Santa Fe, NM 87504-0909 | Alexandra Ladd, ph. 505-955-6567, fx. 505-955-6671 | 6 | 77,493.60
ACORN Institute, Inc., 1024 Elysian Fields Avenue, New Orleans, LA 70117-8402 | Carolyn Carr, ph. 202-546-3499, fx. 202-546-2483 | 6 | 80,000.00
CCC Service of Greater Dallas, Inc., 8737 King George Drive, Dallas, TX 75235-2222 | Bettye Banks, ph. 214-638-2227, fx. 214-540-6900 | 6 | 80,000.00
Housing Partners of Tulsa, Inc., 415 East Independence, Tulsa, OK 74106-5727 | Susan Olivarez, ph. 918-581-5711, fx. 918-581-0645 | 6 | 57,262.86
High Plains Community Development Corporation, Inc., 130 East 2nd Street, Chadron, NE 69337-2329 | Marguerite Vey-Miller, ph. 308-432-4346, fx. 308-432-4655 | 7 | 34,871.54
Colorado Coalition for the Homeless, 2111 Champa Street, Denver, CO 80203-2529 | John Panvensky, ph. 303-239-2217, fx. 303-207-1653 | 8 | 80,000.00
Greater Napa Fair Housing Center, 611 Cabot Way, Napa, CA 94559-4731 | Kathryn Winter, ph. 707-224-9720, fx. 707-224-1566 | 9 | 79,992.00
Legal Aid Society of Oregon, 921 SW Washington Street, Ste. 570, Portland, OR 97205-2831 | Thomas Matsuda, ph. 503-471-1159, fx. 503-471-0147 | 10 | 79,588.80
Idaho Legal Aid Services, Inc, 310 North Fifth Street, Boise, ID 83702-5907 | Kelly Miller, ph. 208-336-8980, fx. 208-342-2561 | 10 | 80,000.00
Housing Network of Rhode Island Association, 48 Nashua Street, Providence, RI 02904-1815 | Carrie Zaslow, ph. 401-521-1461, fx. 401-521-1478 | 1 | 47,261.50
Office of Human Affairs, P.O. Box 37, Newport News, VA 23607-0037 | Robert Ayers, ph. 757-247-0379, fx. 757-247-0652 | 3 | 34,769.34
D.C. Department of Housing and Community Development, 801 North Capitol Street, NE., Ste. 800, Washington, DC 20002-4202 | Patricia Gutierrez, ph. 202-442-7238, fx. 202-535-1392 | 3 | 18,104.17
Mid-Florida Housing Partnership, Inc., 330 North Street, Daytona Beach, FL 32114-2612 | Harry Lapins, ph. 386-252-7200, fx. 386-239-7119 | 4 | 50,000.00
Greenville County Human Relations Community, 301 University Ridge, Ste. 1600, Greenville, SC 29601-3613 | Sharon Smathers, ph. 864-467-7095 | 4 | 50,000.00
ACORN Housing Corporation of Texas, 2600 South Loop W, Ste. 270, Houston, TX 77054-2604 | Ernest Brown, ph. 713-863-9002 | 6 | 49,865.00
Arkansas Community Housing Corporation, Little Rock, AR 72206-1527 | Dickson Bell, ph. 501-376-7151, fx. 501-376-3952 | 6 | 50,000.00
Urban League of Metropolitan St. Louis, 3701 Gradel Square, St. Louis, MO 63156-8138 | Linda Harris, ph. 618-274-1150, fx. 618-482-2581 | 7 | 50,000.00
Legal Aid Foundation of Los Angeles, 1102 Crenshaw Boulevard, Los Angeles, CA 90040-2922 | Mary Heiman, ph. 323-801-7971 | 9 | 50,000.00
Education and Outreach Initiative/Disability Component
Peaceful Sanctuary Christian Church, 3575 West River Commons, Douglasville, GA 30135-3081 | Evelyn Beacham, ph. 770-942-0552, fx. 770-942-8949 | 4 | 100,000.00
Boley Centers for Behavior Health Care, 445 31st Street North, Saint Petersburg, FL 33713-7605 | Jack Humburg, ph. 727-821-4819, fx. 727-822-6240 | 4 | 90,922.00
Statewide Independent Living Council Of Illinois, 122 South Fourth Street, Springfield, IL 62701-1204 | Robin Benson, ph. 217-523-2587, fx. 217-523-0427 | 5 | 86,400.00
Housing Research and Advocacy Center, 3631 Perkins Avenue 3A-2, Cleveland, OH 44114-4702 | Charles Bromley, ph. 216-361-9240, fx. 216-426-1290 | 5 | 100,000.00
Advocacy Center, 225 Baronne Street, Ste. 2112, New Orleans, LA 70112-1724 | Lois Simpson, ph. 504-522-2337, fx. 504-522-5507 | 6 | 100,000.00
AIDS Legal Referral Panel, 1663 Mission Street, Ste. 500, San Francisco, CA 94103-2484 | Bill Hirsh, ph. 415-701-1200, fx. 415-701-1400 | 9 | 22,678.00
Education and Outreach Initiative/Hispanic Fair Housing Awareness Component
Ceiba Housing and Economic, Development Advocacy, 252 Lauro Pinero Avenue, Ceiba, PR 00735-2707 | Hector Nieves, ph.787-885-3020, fx. 787-885-0716 | 4 | 92,386.00
ACORN Community Land Association, 411 Bellamah Avenue, NW., Albuquerque, NM 87102-1315 | Sharon Trotter, ph. 505-244-1086, fx. 505-244-1088 | 6 | 99,775.00
Housing Authority of the County of Fresno, P.O. Box 11985, Fresno, CA 93776-1985 | Martha Cabellero, ph. 530-742-7235, fx. 530-741-0854 | 9 | 7,999.00
ACORN Housing Corporation of Arizona, 1018 West Roosevelt, Phoenix, AZ 85007-2107 | Marilyn Perez, ph. 602-253-1111, fx. 602-258-7143 | 9 | 99,840.00
LaRaza Centro Legal, 474 Valencia Street, Ste. 295, San Francisco, CA 94103-3471 | Anamaria Loya, ph. 415-553-3429, fx. 415-255-7593 | 9 | 100,000.00
Private Enforcement Initiative
Fair Housing Center of Greater Boston, 59 Temple Place, Ste. 1105, Boston, MA 02111-1344 | David Harris, ph. 617-399-0491, fx. 617-399-0492 | 1 | 219,996.00
Connecticut Fair Housing Center, 221 Main Street, Hartford, CT 06106-1890 | Erin Kemple, ph. 860-247-4400, fx. 860-247-4236 | 1 | 220,000.00
New Hampshire Legal Assistance, 1361 Elm Street, Ste. 307, Manchester, NH 03101-1323 | Christine Wellington, ph. 603-206-2214, fx. 603-625-1840 | 1 | 219,602.40
Housing Discrimination Project, 57 Suffolk Street, Holyoke, MA 12201-5054 | Jamie Williamson-Marley, ph. 413-539-9796, fx. 413-533-9978 | 1 | 220,000.00
Pine Tree Legal Assistance, 88 Federal Street, Portland, ME 04112-4205 | Nan Heald, ph. 207-774-4753, fx. 207-828-2300 | 1 | 220,000.00
Fair Housing Council of Central New York, Inc, 327 West Fayette Street, Ste. 408, Syracuse, NY 13202-1264 | Merrilee Witherell, ph. 315-471-0420, fx. 315-471-0549 | 2 | 210,723.20
Fair Housing Council of Northern New Jersey, 131 Main Street, Hackensack, NJ 07601-7052 | Lee Porter, ph. 201-489-3552, fx. 201-489-8472 | 2 | 220,000.00
South Brooklyn Legal Services, 105 Court Street, Brooklyn, NY 11201-5645 | Edward Josephson, ph. 718-237-5500, fx. 718-875-8546 | 2 | 220,000.00
Long Island Housing Services, Inc., 3900 Veterans Memorial Hwy.#251, Bohemia, NY 11716-1042 | Michelle Santantonio, ph. 631-467-5111, fx. 631-467-5131 | 2 | 200,176.80
Fair Housing Council of Suburban Philadelphia, 225 South Chester Road, Ste. 1, Swarthmore, PA 19081-1919 | James Berry, ph. 610-604-4411, fx. 610-604-4424 | 3 | 219,760.80
Equal Rights Center, 11 Dupont Circle, NW., 4th Floor, Washington, DC 20036-1207 | Bruce Kahn, ph. 202-234-3062, fx. 202-234-3106 | 3 | 220,000.00
Fair Housing Partnership of Greater Pittsburgh, Conestoga Building, 7 Wood Street, Ste. 6, Pittsburgh, PA 15222-1920 | Marian Kent, ph. 412-391-2535, fx. 412-391-2647 | 3 | 219,736.80
Baltimore Neighborhoods, Inc., 2217 St. Paul Street, Baltimore, MD 21218-5806 | Joseph Coffey, ph. 410-243-4468, fx. 410-243-1342 | 3 | 182,468.80
Fair Housing Center of Northern Alabama, 1728 3rd Avenue, North, Ste. 400C, Birmingham, AL 35203-2033 | Lila Hackett, ph. 205-324-0111, fx. 205-320-0238 | 4 | 219,992.00
Jacksonville Area Legal Aid, Inc., 126 West Adams Street, Jacksonville, FL 32202-3849 | Michael Figgins, ph. 904-356-8371, fx. 904-356-8780 | 4 | 219,868.00
Bay Area Legal Services, Inc., 829 W. Dr. Martin Luther King Blvd., Tampa, FL 33603-8309 | Richard Woltman, Ph. 813-232-1343, fx. 813-232-1403 | 4 | 152,701.60
Metro Fair Housing Services, 1514 E. Cleveland Avenue, Ste. 118, East Point, GA 30344-6967 | Foster Corbin, ph. 404-765-3985, fx. 404-765-3985 | 4 | 220,000.00
Housing Opportunities Project for Excellence, 18441 NW 2nd Avenue, Ste. 218, Miami, FL 33169-4517 | Keenya Robertson, ph. 305-651-4673, fx. 305-493-0108 | 4 | 220,000.00
North Delta Mississippi Enterprise Community, P.O. Box 330, Sardis, MS 39666-0330 | Robert Avant, ph. 662-487-1968, fx. 662-487-0088 | 4 | 220,000.00
Central Alabama Fair Housing Center, Inc., 1817 West Second Street, Montgomery, AL 36106-1503 | Faith Cooper, ph. 334-263-4663, fx. 334-263-4664 | 4 | 219,200.00
Lexington Fair Housing Council, Inc., 205 E. Reynolds Road, Ste. E, Lexington, KY 40517-1316 | Arthur Crosby, ph. 859-971-8067, fx. 859-971-1652 | 4 | 207,531.20
West Tennessee Legal Services, 210 West Main Street, P.O. Box 2066, Jackson, TN 38302-2066 | Carol Gish, ph. 731-426-1309, fx. 731-423-2600 | 4 | 220,000.00
Tennessee Fair Housing Council, 107 Music City Circle, Ste. 318, Nashville, TN 37214-1214 | Tracey McCartney, ph. 615-874-2344, fx.615-874-1636 | 4 | 200,918.40 (PEI)
HOPE Fair Housing Center, 2100 Manchester Road, Ste. 2070 B, Wheaton, IL 60187-4591 | Bernard Kleina, ph. 630-690-6500, fx. 630-690-6586 | 5 | 219,586.40
Miami Valley Fair Housing Center, Inc., 21-23 East Babbit Street, Dayton, OH 45405-4968 | Jim McCarthy, ph. 937-223-6035, fx. 937-223-6279 | 5 | 219,999.02
Fair Housing Center of Southeastern Michigan, P.O. Box 7825, 420 N 4th Avenue, Ann Arbor, MI 48107-7825 | Pamela Kisch, ph. 734-994-3426, fx. 734-665-2974 | 5 | 67,384.86
Chicago Lawyers' Committee for Civil Rights, 100 N LaSalle Street, Ste. 600, Chicago, IL 60602-2448 | Gaylene Henry, ph. 312-630-09744, fx. 312-630-1127 | 5 | 219,988.80
Metropolitan Milwaukee Fair Housing Council, 600 East Mason Street, Ste. 200, Milwaukee, WI 53202-3831 | William Tisdale, ph. 414-278-1240, fx. 414-278-8033 | 5 | 219, 994.40
Fair Housing Center, 1000 Monroe Street, Ste. 4, Toledo, OH 43624-1954 | Michael Marsh, ph. 419-243-6163, fx. 419-243-3536 | 5 | 220,000.00
John Marshall Law School, 315 S Plymouth Court, Chicago, IL 60604-3969 | Michael Seng, ph. 312-987-1446, fx. 312-427-9438 | 5 | 219,668.80
Fair Housing Center of Metro Detroit, 1249 Washington Boulevard, Detroit, MI 48226-1828 | Clifford Schrupp, ph.313-963-1274, fx. 313-963-4817 | 5 | 98,985.60
Tri-County Independent Living Center, 680 East Market Street, Ste. 205, Akron, OH 44304-1640 | Rose Juriga, ph. 330-762-0007, fx. 330-762-7416 | 5 | 220,000.00
South Suburban Housing Center, 18220 Harwood Avenue, Ste. 1, Homewood, IL 60430-2151 | John Petruszak, ph.708-957-4674, fx. 708-957-4761 | 5 | 200,000.00
Legal Services of Eastern Michigan, 436 S. Saginaw Street, Flint, MI 48502-1812 | Teresa Trantham, ph. 810-234-2621, fx. 810-234-9039 | 5 | 161,034.40
Fair Housing Center of Greater Grand Rapids,1514 Wealthy SE., Ste. 226, Grand Rapids, MI 49506-2755 | Nancy Haynes, ph. 616-451-2980, fx. 616-451-2657 | 5 | 175,820.00
Legal Aid Society of Minneapolis, 430 First Avenue North, Ste. 300, Minneapolis, MN 55401-1780 | Lisa Cohen, ph. 612-746-3702, fx. 612-334-5755 | 5 | 220,000.00
Fair Housing Contact Service, 333 South Main Street, Ste. 300, Akron, OH 44308 | Tamala Skipper, ph. 330-376-6191, fx. 330-376-8391 | 5 | 138,880.80 (PEI)
New Mexico Legal Aid, Inc., P.O. Box 25486, Albuquerque, NM 87125-5486 | John Arango, ph. 505-243-7871, fx. 505-842-9864 | 6 | 220,000.00
Austin Tenants Council, 1619 E. Cesar Chavez Street, Austin, TX 78702-4455 | Katherine Stark, ph. 512-474-7007, fx. 512-474-0197 | 6 | 218,946.40
Greater New Orleans Fair Housing Action Center, 938 Lafayette Street, Ste. 413, New Orleans, LA 70113-1034 | Jeffery May, ph. 504-596-2100, fx. 504-596-2004 | 6 | 219,999.20
Metropolitan Fair Housing Council, 1500 NE 4th Street, Ste., 201, Oklahoma City, OK 73117-3003 | George Wesley, ph. 405-232-3247, fx. 405-232-5119 | 6 | 216,380.80
Family Housing Advisory Services, Inc., 2416 Lake Street, Omaha, NE 68110-3831 | Jill Fenner, ph. 402-934-6675, fx. 412-934-7928 | 7 | 220,000.00
Metropolitan St. Louis Equal Housing Opportunity, 1027 S Vandeventer, 4th Street, St. Louis, MO 63110-3805 | Willie Jordan, ph. 314-534-5800, fx. 314-534-2551 | 7 | 219,999.32
North Dakota Housing Council, Inc., 533 Airport Road, Ste. C, Bismark, ND 58504-6177 | Amy Nelson, ph. 701-221-2530, fx. 701-221-9597 | 8 | 219,360.00
Montana Fair Housing, Inc., 2522 South 3rd Street, West, Missoula, MT 59804-1329 | Robert Liston, ph. 406-542-2611, fx. 406-542-2235 | 8 | 219,869.60
California Rural Legal Assistance, 631 Howard Street, Ste. 300, San Francisco, CA 94105-3935 | Ilene Jacobs, ph. 530-742-7235, fx. 530-741-0854 | 9 | 220,000.00
Bay Area Legal Aid, 405 14th Street, 8th Floor, Oakland, CA 94612-2704 | Ramon Arias, ph. 510-663-4755, fx. 510-663-4719 | 9 | 220,000,00
Sentinel Fair Housing, 510 16th Street, Ste. 560, Oakland, CA 94612-1520 | Mona Breed, ph. 510-836-2687, fx. 510-836-0461 | 9 | 187,040.80
Southwest Fair Housing Council, 2030 Broadway, Ste. 101, Tucson, AZ 85719-5908 | Richard Rhey, ph. 520-798-1568, fx. 520-620-6796 | 9 | 218,535.20
Silver State Fair Housing Council, 855 E. Fourth Street, Ste. E, Reno, NV 89512-3555 | Katherine Copeland, ph. 775-324-0990, fx. 775-324-7507 | 9 | 218,462.40
Legal Aid Society of Hawaii, 924 Bethel Street, Honolulu, HI 96813-4304 | N. Nalan Fujimori, ph. 808-527-8014, fx. 808-527-8088 | 9 | 220,000.00
Arizona Fair Housing Center, 615 N 5th Avenue, Phoenix, AZ 85003-1528 | Edward Valenzuela, ph. 602-548-1599, fx. 602-548-1695 | 9 | 213,655.20
Orange County Fair Housing Council, Inc., 201 S. Broadway, Santa Ana, CA 92701-5633 | Deborah Pierson, ph. 714-569-0823, fx. 714-835-0281 | 9 | 123,600.00
Fair Housing of Marin, 615 B Street, San Rafael, CA 94901-3884 | Nancy Kenyon, ph. 415-457-5025, fx. 415-457-6382 | 9 | 220,000.00
Fair Housing Council of Central California, Inc., 560 E Shields Avenue, Ste. 103, Fresno, CA 93728-4648 | Marilyn Borelli, ph. 559-244-2950, fx. 559-244-2956 | 9 | 220,000.00
Project Sentinel, Inc., 430 Sherman Avenue, Ste. 308, Palo Alto, CA 94306-1854 | Ann Marquart, ph. 650-321-6291, fx. 650-321-4173 | 9 | 220,000.00
Northwest Fair Housing Alliance, 35 W Main Street, Ste. 250, Spokane, WA 99201-0116 | Florence Brassier, ph. 509-325-2665, fx. 509-325-2716 | 10 | 220,000.00
Fair Housing Council of South Puget Sound, 1517 South Fawcett, Ste. 250, Tacoma, WA 98402-1807 | Lauren Walker, ph. 253-274-9523, fx. 253-274-8220 | 10 | 220,000.00
Fair Housing Council of Oregon, 1020 SW Taylor Street, Ste. 700, Portland, OR 97205-2512 | Pegge McGuire, ph. 503-223-3542, fx. 503-223-3396 | 10 | 219,931.20
Fair Housing Organizations Initiative/ Establishing New Organizations Component
Metropolitan Milwaukee Fair Housing Council, 600 East Mason Street, Ste. 200, Milwaukee, WI 53202-3831 | William Tisdale, ph. 414-278-1240, fx. 414-278-8033 | 2 | 1,049,985.00
Fair Housing Council of Central New York, 327 West Fayette Street, Ste. 408, Syracuse, NY 13202-1275 | Merrilee Wetherell, ph. 315-471-0420, fx. 315-471-0549 | 2 | 200,000.00
Legal Services of Eastern Michigan, 436 South Saginaw Street, Flint, MI 48502 | Teresa F. Trantham, ph. 810-234-2621, fx. 810-234-9039 | 5 | 200,000.00
ACORN Community Land Association of Louisiana, c/o 16 West 25th Street, Baltimore, MD 21218 | Valerie Coffin, ph. 410-735-3373, fx. 410-735-3383 | 9 | 200,000.00
Education and Outreach Initiative/National Component
Leadership Conference on Civil Rights Education, 1629 K Street NW 10th Floor, Washington, DC 20006-1602 | Karen Lawson, ph. 202-466-3434, fx. 202-466-3435 | 3 | 499,938.00
FY 2003 Continuation Funding of Fair Housing Initiatives Program Award Out of FY 2004 Funding
Education and Outreach Initiative/Partnership with Historically Black Colleges and Universities
Howard University School of Law, 2400 6th Street, NW, P.O. Box 1071, Washington, DC 20059-0001 | Tamar Meekins, ph. 202-806-8082, fx. 202-806-8436 | 3 | 1,000,000.00
Secretary Initiated Projects/ Contracts
Project for Training and Technical Assistance Guidance—Contract
BearingPoint, LLC (formerly KPMG Consulting), 1676 International Dr., McClean VA 22102-4828 | Wendy F. Carr, 703-747-4230 | 3 | 1,265,207.00

[FR Doc. E6-14840 Filed 9-7-06; 8:45 am]

BILLING CODE 4210-67-P